FEDERAL COMMUNICATIONS COMMISSION

Notice of Public Information Collection(s) Being Reviewed by the Federal Communications Commission

June 5, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 16, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0813.

Title: Revision of the Commission's Rules to Ensure Compatibility with Enhanced 911 Calling Systems.

Form No.: N/A.

Type of Review: Revision of a currently approved collection.

Respondents: Businesses or other for-profit, federal government, state, local or tribal government.

Number of Respondents: 42,031.

Estimated Time Per Response: 1-5 hours.

Frequency of Response: On occasion and annual reporting requirements, third party disclosure requirement.

Total Annual Burden: 195,100 hours.

Total Annual Cost: N/A.

Needs and Uses: The Commission revised this information in response to petitions for reconsideration filed in response to the Report and Order in CC Docket No. 94-102. The Commission adopted a Memorandum Opinion and Order in the wireless Enhanced 911 (E911) rulemaking proceeding, reaffirming its commitment to the rapid implementation of technologies needed to bring emergency assistance to wireless callers throughout the United States. The limited revisions made in this decision to the Commission's rules are intended to remedy technical problems raised in the record.

OMB Control No.: 3060-0179.

Title: Section 73.1590, Equipment Performance Measurements.

Form No.: N/A.

Type of Review: Extension of a currently approved collection.

Respondents: Businesses or other for-profit, not-for-profit institutions.

Number of Respondents: 13,049.

Estimated Time Per Response: .5-18 hours.

Frequency of Response: Recordkeeping requirement.

Total Annual Burden: 12,335 hours.

Total Annual Cost: N/A.

Needs and Uses: Section 73.1590 requires licensees of AM, FM and TV stations to make audio and video equipment performance measurements for each main transmitter. These measurements and a description of the equipment and procedure used in making the measurements must be kept on file at the transmitter for two years. In addition, this information must be made available to the FCC upon request. The data is used by FCC staff in field investigations to identify sources of interference.

Federal Communications Commission.
Magalie Roman Salas,
Secretary.

[FR Doc. 01-14935 Filed 6-13-01; 8:45 am]

BILLING CODE 6712-01-P